DEPARTMENT OF ENERGY

Federal Energy Regulatory Commission

Combined Notice of Filings #1

Take notice that the Commission received the following electric corporate filings:

Docket Numbers: EC12-101-000.

Applicants: Golden Spread Electric Cooperative, Inc., Denver City Energy Associates, L.P., Great Point Power Denver City LP, LLC, LSP-Denver City, LLC, GPP Investors I, LLC, QUIXX Mustang Station, LLC

Description: Joint Application for Authorization under Section 203 of the Federal Power Act and Request for Expedited Consideration and Waivers of Golden Spread Electric Cooperative, Inc. et al.

Filed Date: 5/11/12

Accession Number: 20120511-5224

Comments Due: 5 p.m. ET 6/1/12

Docket Numbers: EC12-102-000.

Applicants: Riverside Energy Center, LLC

Description: Application for Section 203 Authorization of Riverside Energy Center, LLC, et al.

Filed Date: 5/11/12

Accession Number: 20120511-5226

Comments Due: 5 p.m. ET 6/1/12

Take notice that the Commission received the following electric rate filings:

Docket Numbers: ER12-397-001.

Applicants: Midwest Independent Transmission System Operator, Inc.

Description: G491 Compliance filing to be effective 11/15/2011.

Filed Date: 5/11/12

Accession Number: 20120511-5158

Comments Due: 5 p.m. ET 6/1/12

Docket Numbers: ER12-1655-000.

Applicants: Lea Power Partners, LLC

Description: Supplemental Notice to Notice of Change in Status of Lea Power Partners, LLC.

Filed Date: 5/11/12

Accession Number: 20120511-5080

Comments Due: 5 p.m. ET 6/1/12

Docket Numbers: ER12-1656-000.

Applicants: Waterside Power, LLC

Description: Supplemental Notice to Notice of Change in Status of Waterside Power, LLC.

Filed Date: 5/11/12

Accession Number: 20120511-5081

Comments Due: 5 p.m. ET 6/1/12

Docket Numbers: ER12-1772-000.

Applicants: Southwest Power Pool, Inc.

Description: Compliance Filing in Orders ER08-1419-003 and ER08-1419-004—Attachment O to be effective 7/26/2010.

Filed Date: 5/11/12

Accession Number: 20120511-5165

Comments Due: 5 p.m. ET 6/1/12

Docket Numbers: ER12-1773-000.

Applicants: Inupiat Energy Marketing, LLC

Description: Initial MBR Application to be effective 5/21/2012.

Filed Date: 5/11/12

Accession Number: 20120511-5176

Comments Due: 5 p.m. ET 6/1/12

Docket Numbers: ER12-1774-000.

Applicants: Midwest Independent Transmission System Operator, Inc.

Description: 05-11-2012 to be effective 7/11/2012.

Filed Date: 5/11/12

Accession Number: 20120511-5181

Comments Due: 5 p.m. ET 6/1/12

Take notice that the Commission received the following electric securities filings:

Docket Numbers: ES12-41-000.

Applicants: ISO New England Inc.

Description: Application of ISO New England Inc. under Section 204 of the Federal Power Act For An Order Authorizing the Issuance of Securities.

Filed Date: 5/11/12

Accession Number: 20120511-5225

Comments Due: 5 p.m. ET 6/1/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2012.
Nathaniel J. Davis, Sr.,
Deputy Secretary.

[FR Doc. 2012-12188 Filed 5-18-12; 8:45 am]

BILLING CODE 6717-01-P